DEPARTMENT OF THE TREASURY

Financial Crimes Enforcement Network

Senior Executive Service; Combined Performance Review Board (PRB)

AGENCY: Financial Crimes Enforcement Network (“FinCEN”), Treasury.

ACTION: Notice of Members of Combined Performance Review Board (PRB).

SUMMARY: This notice announces the appointment of the members of the Combined Performance Review Board (PRB) for the Bureau of the Fiscal Service (BFS), the Bureau of Engraving and Printing (BEP), the United States Mint, the Alcohol and Tobacco Tax and Trade Bureau (TTB), and the Financial Crimes Enforcement Network (FinCEN). The Combined PRB reviews the performance appraisals of career senior executives who are below the level of bureau head and principal deputy in the bureaus, except for executives below the Assistant Commissioner/Executive Director level in the Bureau of Fiscal Service. The Combined PRB makes recommendations regarding proposed performance appraisals, ratings, bonuses, pay adjustments, and other appropriate personnel actions.

DATES: The membership of the Combined PRB as described in the Notice was confirmed on October 29, 2018.

FOR FURTHER INFORMATION CONTACT: Nicole Hall, Human Resources Specialist, Financial Crimes Enforcement Network, (703) 905-3557.

SUPPLEMENTARY INFORMATION: Pursuant to 5 U.S.C. 4314(c)(4), this Notice announces the appointment of the following primary and alternate members to the Combined PRB:

PRIMARY MEMBERS: Stephen L. Manning, Deputy Commissioner, Finance and Administration, Bureau of the Fiscal Service; David Croft, Associate Director of Manufacturing, United States Mint; Peter Bergstrom, Associate Director, Management Services, Financial Crimes Enforcement Network; Marty Greiner, Deputy Director, Chief Administrative Officer, Bureau of Engraving and Printing; Daniel T. Riordan, Acting Assistant Administrator, HQ Operations, Alcohol and Tobacco Tax and Trade Bureau.

ALTERNATE MEMBERS: Theresa J. Kohler, Assistant Commissioner/CFO, Bureau of the Fiscal Service; Randall Johnson, Denver Plan Superintendent, United States Mint; Amy Taylor, Associate Director, Technology Division, Financial Crimes Enforcement Network; Harry Singh, Associate Director, Chief Information Officer, Bureau of Engraving and Printing; Mary G. Ryan, Deputy Administrator, Headquarter Operations, Alcohol and Tobacco Tax and Trade Bureau.

Kenneth A. Blanco,
Director, Financial Crimes Enforcement Network.

[FR Doc. 2018-25303 Filed 11-19-18; 8:45 am]

BILLING CODE 4810-02-P